DEPARTMENT OF HOMELAND SECURITY

Federal Emergency Management Agency

[Docket ID FEMA-2018-0002; Internal Agency Docket No. FEMA-B-1844]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Mohave | Town of Colorado City (18-09-1337X). | The Honorable Joseph Allred, Mayor, Town of Colorado City, P.O. Box 70, Colorado City, AZ 86021. | Town Hall, 25 South Central Street, Colorado City, AZ 86401. | https://msc.fema.gov/portal/advanceSearch. | Nov. 2, 2018 | 040059
Mohave | Unincorporated Areas of Mohave County, (18-09-1337X). | The Honorable Gary Watson, Chairman, Board of Supervisors, Mohave County, 700 West Beale Street, Kingman, AZ 86402. | Mohave County Administration Building, 700 West Beale Street, Kingman, AZ 86402. | https://msc.fema.gov/portal/advanceSearch. | Nov. 2, 2018 | 040058
California:
Riverside | City of Riverside, (18-09-0497P). | The Honorable Rusty Bailey, Mayor, City of Riverside, 3900 Main Street, Riverside, CA 92522. | Public Works Department, 3900 Main Street, 4th Floor, Riverside, CA 92522. | https://msc.fema.gov/portal/advanceSearch. | Oct. 22, 2018 | 060260
Riverside | Unincorporated Areas of Riverside County, (18-09-0497P). | The Honorable Chuck Washington, Chairman, Board of Supervisors, Riverside County, 4080 Lemon Street, 5th Floor, Riverside, CA 92501. | Riverside County Flood Control and, Water Conservation District, 1995 Market Street, Riverside, CA 92501. | https://msc.fema.gov/portal/advanceSearch. | Oct. 22, 2018 | 060245
Hawaii: Honolulu | City and County of Honolulu, (18-09-1196P). | The Honorable Kirk Caldwell, Mayor, City and County of Honolulu, 530 South King Street Room 306, Honolulu, HI 96813. | Department of Planning and Permitting, 650 South King Street, Honolulu, HI 96813. | https://msc.fema.gov/portal/advanceSearch. | Oct. 30, 2018 | 150001
Illinois:
Cook | Village of Flossmoor, (18-05-2185P). | The Honorable Paul Braun, Mayor, Village of Flossmoor, 2800 Flossmoor Road, Flossmoor, IL 60422. | Public Works Service Center, 1700 Central Park Avenue, Flossmoor, IL 60422. | https://msc.fema.gov/portal/advanceSearch. | Oct. 26, 2018 | 170091
Cook | Village of Homewood, (18-05-2185P). | The Honorable Richard Hofeld, Mayor, Village of Homewood, 2020 Chestnut Road, Homewood, IL 60430. | Public Works, 17755 South Ashland Avenue, Homewood, IL 60430. | https://msc.fema.gov/portal/advanceSearch. | Oct. 26, 2018 | 170109
Minnesota: Olmsted | City of Rochester, (18-05-0869P). | The Honorable Ardell F. Brede, Mayor, City of Rochester, City Hall, 201 4th Street Southeast Room 281, Rochester, MN 55904. | City Hall, 201 4th Street Southeast, Rochester, MN 55904. | https://msc.fema.gov/portal/advanceSearch. | Oct. 18, 2018 | 275246
Nevada: Clark | Unincorporated Areas of Clark County, (18-09-0773P). | The Honorable Steve Sisolak, Chairman, Board of Commissioners, Clark County, 500 South Grand Central Parkway, 6th Floor, Las Vegas, NV 89106. | Clark County, Office of the Director of Public Works, 500 South Grand Central Parkway, Las Vegas, NV 89155. | https://msc.fema.gov/portal/advanceSearch. | Oct. 18, 2018 | 320003
Oregon: Multnomah | City of Portland, (18-10-0454P). | The Honorable Ted Wheeler, Mayor, City of Portland, 1221 Southwest 4th Avenue, Room 340, Portland, OR 97204. | Bureau of Environmental Services, 1221 Southwest 4th Avenue, Room 230, Portland, OR 97204. | https://msc.fema.gov/portal/advanceSearch. | Nov. 2, 2018 | 410183
Virginia: Roanoke | City of Roanoke, (18-03-0502P). | The Honorable Sherman P. Lea, Sr., Mayor, City of Roanoke, 215 Church Avenue Southwest, Room 456, Roanoke, VA 24011. | Engineering Department Municipal Building, 215 Church Avenue, Roanoke, VA 24011. | https://msc.fema.gov/portal/advanceSearch. | Oct. 11, 2018 | 510130
Wisconsin: Dane | City of Verona, (18-05-0637P). | The Honorable Luke Diaz, Mayor, City of Verona, Verona City Center, 111 Lincoln Street, Verona, WI 53593. | City Hall, 111 Lincoln Street, Verona, WI 53593. | https://msc.fema.gov/portal/advanceSearch. | Oct. 5, 2018 | 550092

[FR Doc. 2018-16902 Filed 8-7-18; 8:45 am]

BILLING CODE 9110-12-P